DEPARTMENT OF LABOR

Employment and Training Administration

[TA-W-57,378]

Emerson Network Power, Energy Systems, Formerly Known as Marconi Communication, Toccoa, GA; Dismissal of Application for Reconsideration

Pursuant to 29 CFR 90.18(C) an application for administrative reconsideration was filed with the Director of the Division of Trade Adjustment Assistance for workers at Emerson Network Power, Energy Systems, formerly known as Marconi Communication, Toccoa, Georgia. The application contained no new substantial information which would bear importantly on the Department's determination. Therefore, dismissal of the application was issued.

TA-W-57,378; Emerson Network Power, Energy Systems, formerly known as Marconi Communication, Toccoa, Georgia (August 8, 2005)

Signed in Washington, DC this 10th day of August 2005.
Timothy Sullivan,
Director, Division of Trade Adjustment Assistance.

[FR Doc. E5-4495 Filed 8-17-05; 8:45 am]

BILLING CODE 4510-30-P